DEPARTMENT OF COMMERCE

International Trade Administration

[A-570-827]

Certain Cased Pencils From the People's Republic of China: Final Results of Antidumping Duty Changed Circumstances Review

AGENCY: Enforcement and Compliance, International Trade Administration, Commerce.

SUMMARY: On February 26, 2015, the Department of Commerce (the Department) published the notice of initiation and the preliminary results of the changed circumstances review (CCR) of the antidumping duty order on certain cased pencils (pencils) from the People's Republic of China (PRC), in which the Department preliminarily determined that Beijing FILA Dixon Stationery Co., Ltd.¹ (Beijing Dixon), as currently structured under its new business license, is the successor-in-interest to Beijing Dixon.² For these final results, the Department continues to find that Beijing Dixon is the successor-in-interest to Beijing Dixon as that entity existed at the time the Department revoked the order ³ with respect to Beijing Dixon.⁴ Accordingly, the Revocation of the antidumping duty Order with respect to Beijing Dixon continues to apply to Beijing Dixon as currenly structured.

¹ A/k/a Beijing Dixon Ticonderoga Stationery Company, Ltd., and Beijing Dixon Stationery Company.

² See Certain Cased Pencils from the People's Republic of China: Notice of Initiation and Preliminary Results of Antidumping Duty Changed Circumstances Review, 80 FR 10457 (February 26, 2015) (Preliminary Results) and accompanying memorandum, “Antidumping Duty Order on Certain Cased Pencils from the People's Republic of China: Decision Memorandum for Preliminary Results of Antidumping Duty Changed Circumstances Review Requested by the Dixon Ticonderoga Companies” dated February 18, 2015 (Preliminary Decision Memorandum).

³ See Antidumping Duty Order: Certain Cased Pencils from the People's Republic of China, 59 FR 66909 (December 28, 1994) (Order).

⁴ See Certain Cased Pencils From the People's Republic of China: Final Results of Antidumping Duty Administrative Review and Determination To Revoke Order In Part; 2010-2011, 78 FR 42932 (July 18, 2013) (Revocation) and accompanying issues and decision memorandum (IDM).

DATES: Effective: April 9, 2015.

FOR FURTHER INFORMATION CONTACT: Sergio Balbontin, AD/CVD Operations, Office I, Enforcement and Compliance, International Trade Administration, Department of Commerce, 14th Street and Constitution Avenue NW., Washington, DC 20230; telephone: (202) 482-6478.

SUPPLEMENTARY INFORMATION:

Background

On December 28, 1994, the Department published the Order on pencils from the PRC.⁵ On July 18, 2013, the Department revoked the Order on pencils from the PRC with respect to pencils exported by Beijing Dixon.⁶

⁵ See Order.

⁶ See Revocation and accompanying IDM.

On November 27, 2014, Beijing Dixon requsted that the Department conduct a CCR pursuant to section 751(b)(1) of the Tariff Act of 1930, as amended (the Act), 19 CFR 351.216(b), and 19 CFR 351.221, to determine whether it is the successor-in-interest to Beijing Dixon for purposes of the Order.⁷ On February 26, 2015, the Department concurrently initiated and published the Preliminary Results of the CCR of the antidumping duty Order on pencils exported by Beijing Dixon.⁸ We invited comments from interested parties, but no party commented on the Preliminary Results or requested a hearing. This CCR is being conducted in accordance with section pursuant to section 751(b) of the Act, 19 CFR 351.216, and 19 CFR 351.221(c)(3).

⁷ See letter from Beijing Dixon to the Department dated November 27, 2014, “Request for Changed Circumstances Review pursuant to 19 CFR 351.216 on behalf of Dixon Ticonderoga Company.”

⁸ See Prelilminary Results and Preliminary Decision Memorandum.

Scope of the Order

The merchandise subject to the order includes pencils from the PRC. Pencils are currently classifiable under Harmonized Tariff Schedule of the United States (HTSUS) subheading 9609.1010. Although the HTSUS subheadings are provided for convenience and customs purposes, the written product description is dispositive.⁹

⁹ For a complete description of the scope of the Order, see Preliminary Decision Memorandum at 4.

Final Results of Changed Circumstances Review

Because no interested parties submitted comments on the Department's Preliminary Results, and because there is no other information or evidence on the record that calls into question the Preliminary Results, the Department adopts the reasoning and findings of fact outlined in the Prelilminary Results and Preliminary Decision Memorandum, and determines that Beijing Dixon is the successor-in-interest to Beijing Dixon at the time of the Revocation.¹⁰

¹⁰ See Preliminary Results, 80 FR at 10457.

Application of the Revocation of the Order

As explained in the Preliminary Resuts and the Preliminary Decision Memorandum, the Revocation of the antidumping duty Order with respect to Beijing Dixon, as that entity existed at the time of Revocation, continues to apply to Beijing Dixon as currenly structured.

Instructions to U.S. Customs and Border Protection

As a result of this determination, the Department finds that entries of subject merchandise exported by Beijing Dixon as currently structured should receive the same antidumping duty treatment with respect to cased pencils as its predecessor-in-interest. Accordingly, the Department will continue to instruct U.S. Customs and Border Protection to liquidate entries for Beijing Dixon without regard to antidumping duties.

Administrative Protective Order

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. See 19 CFR 351.305(a)(3). Failure to comply with the regulations and the terms of an APO is a sanctionable violation. See 19 CFR part 354.

These final results of administrative review are issued and published in accordance with sections 751(b)(1) and 777(i) of the Act and 19 CFR 351.216(e).

Dated: April 3, 2015.
Paul Piquado,
Assistant Secretary for Enforcement and Compliance.

[FR Doc. 2015-08221 Filed 4-8-15; 8:45 am]

BILLING CODE 3510-DS-P